DEPARTMENT OF TRANSPORTATION

Office of the Secretary

[Docket Nos. OST-2005-20924 and OST-2005-20925]

Applications of Cargo 360, Inc. for Certificate Authority

AGENCY: Department of Transportation.

ACTION: Notice of Order to Show Cause (Order 2005-12-19).

SUMMARY: The Department of Transportation is directing all interested persons to show cause why it should not issue orders finding Cargo 360, Inc., fit, willing, and able, and awarding it certificates of public convenience and necessity to engage in interstate and foreign scheduled air transportation of property and mail.

DATES: Persons wishing to file objections should do so no later than January 12, 2006.

ADDRESSES: Objections and answers to objections should be filed in Dockets OST-2005-20924 and OST-2005-20925 and addressed to U.S. Department of Transportation, Docket Operations, (M-30, Room PL-401), 400 Seventh Street, SW., Washington, DC 20590, and should be served upon the parties listed in Attachment A to the order.

FOR FURTHER INFORMATION CONTACT: Ms. Lauralyn J. Remo, Air Carrier Fitness Division (X-56, Room 6401), U.S. Department of Transportation, 400 Seventh Street, SW., Washington, DC 20590, (202) 366-9721.

Dated: December 29, 2005.
Michael W. Reynolds,
Acting Assistant Secretary for Aviation and International Affairs.

[FR Doc. 06-66 Filed 1-4-06; 8:45 am]

BILLING CODE 4910-62-P